DEPARTMENT OF AGRICULTURE

Submission for OMB Review; Comment Request; Reinstatement

The Department of Agriculture has submitted the following information collection requirement(s) to OMB for review and reinstatement under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by December 11, 2023. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Federal Seed Act Program.

OMB Control Number: 0581-0026.

Summary of Collection: The Federal Seed Act (FSA) (7 U.S.C. 1551-1611) regulates agricultural and vegetable seeds in interstate commerce. Fresh apples and grapes grown in the United States shipped to designated foreign destination must meet minimum quality and other requirements established by regulations issued under the Export Apple Act (7 U.S.C. 581-590) and the Export Grape and Plum Act (7 U.S.C. 591-599) (Acts) in 7 CFR parts 33 and 35, respectively. Regulations for plum exports have not been in effect since 1991.

The U.S. Department of Agriculture's (USDA) issues regulations that cover exports of U.S. fresh apples and grapes shipped to foreign destinations, except for grapes shipped to Canada or Mexico and apples in bulk bins shipped to Canada. Certain limited quantity provisions may exempt some shipments from this information collection. Regulations issued under the Acts (7 CFR 33.11 for apples and § 35.12 for grapes) require that USDA inspect and certify that each export shipment of fresh apples and grapes complies with quality and shipping requirements effective under the Acts.

Need and Use of the Information: The information in this collection is the minimum information necessary to effectively carry out the enforcement of FSA. With the exception of the requirements for entering a new variety into a State seed certification program (set forth separately below), the information collection is entirely recordkeeping rather than reporting. The FSA program would be ineffective without the ability to examine pertinent records as necessary to resolve complaints of violations.

Description of Respondents: Business or other for-profit; Farm.

Number of Respondents: 3,484.

Frequency of Responses: Recordkeeping; Reporting: On occasion.

Total Burden Hours: 97,847.

Agricultural Marketing Service

Title: Export Fruit Regulations—Export Apple Act (7 CFR part 33) and Export Grape and Plum Act (7 CFR part 35).

OMB Control Number: 0581-0143.

Summary of Collection: Fresh apples and grapes grown in the United States shipped to designated foreign destination must meet minimum quality and other requirements established by regulations issued under the Export Apple Act (7 U.S.C. 581-590) and the Export Grape and Plum Act (7 U.S.C. 591-599) (Acts) in 7 CFR parts 33 and 35, respectively. Regulations for plum exports have not been in effect since 1991. The U.S. Department of Agriculture's (USDA) issues regulations that cover exports of U.S. fresh apples and grapes shipped to foreign destinations, except for grapes shipped to Canada or Mexico and apples in bulk bins shipped to Canada. Certain limited quantity provisions may exempt some shipments from this information collection. Regulations issued under the Acts (7 CFR 33.11 for apples and § 35.12 for grapes) require that USDA inspect and certify that each export shipment of fresh apples and grapes complies with quality and shipping requirements effective under the Acts.

Need and Use of the Information: The information collection requirements in this request are essential to carry out the intent and administration of the Acts. The currently approved collection under OMB No. 0581-0143 authorizes the use of an Export Form Certificate (SC-205). Federal or Federal-State Inspection Program (FSIP) inspectors use the Export Form Certificate to certify inspection of the shipment for exports bound for non-Canadian destinations. Procedures require shippers to maintain and provide, upon USDA's request, a paper or electronic copy of the SC-205 when needed for USDA to monitor compliance with regulations. Based on procedures amended in 2016 and approved by OMB for information collection purposes, carriers, which transport goods on behalf of shippers, are no longer required to maintain a copy of the SC-205.

Description of Respondents: Business or other for-profit.

Number of Respondents: 200.

Frequency of Responses: Recordkeeping; Reporting; Annually.

Total Burden Hours: 9,750.

Levi S. Harrell,
Departmental Information Collection Clearance Officer.

[FR Doc. 2023-24842 Filed 11-8-23; 8:45 am]

BILLING CODE 3410-02-P